DEPARTMENT OF TRANSPORTATION

Federal Aviation Administration

14 CFR Part 39

[Docket No. FAA-2007-0216; Directorate Identifier 2007-NM-122-AD; Amendment 39-15435; AD 2008-06-23]

RIN 2120-AA64

Airworthiness Directives; McDonnell Douglas Model DC-8-55, DC-8F-54, and DC-8F-55 Airplanes; and Model DC-8-60, DC-8-70, DC-8-60F, and DC-8-70F Series Airplanes

AGENCY: Federal Aviation Administration (FAA), Department of Transportation (DOT).

ACTION: Final rule.

SUMMARY: The FAA is superseding an existing airworthiness directive (AD) that applies to certain McDonnell Douglas Model DC-8-55, DC-8F-54, and DC-8F-55 airplanes; and Model DC-8-60, DC-8-70, DC-8-60F, and DC-8-70F series airplanes. The existing AD currently requires a one-time inspection for previous repairs of the aft fuselage skin panel at the longeron 28 skin splice, repetitive inspections for cracks of the same area, and related investigative and corrective actions. The existing AD also provides optional actions for extending the repetitive inspection intervals. This new AD re-defines and more clearly describes the optional actions for extending the repetitive inspection intervals. This AD results from our determination that the inspections and actions described in the existing AD do not adequately address the unsafe condition. We are issuing this AD to detect and correct cracks in the aft fuselage skin at the longeron 28 skin splice, which could lead to loss of structural integrity of the aft fuselage, resulting in rapid decompression of the airplane.

DATES: This AD becomes effective April 22, 2008.

The incorporation by reference of certain publications listed in the AD was approved previously by the Director of the Federal Register as of February 28, 2007 (72 FR 3044, January 24, 2007).

ADDRESSES: For service information identified in this AD, contact Boeing Commercial Airplanes, Long Beach Division, 3855 Lakewood Boulevard, Long Beach, California 90846, Attention: Data and Service Management, Dept. C1-L5A (D800-0024).

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Jon Mowery, Aerospace Engineer, Airframe Branch, ANM-120L, FAA, Los Angeles Aircraft Certification Office, 3960 Paramount Boulevard, Lakewood, California 90712-4137; telephone (562) 627-5322; fax (562) 627-5210.

SUPPLEMENTARY INFORMATION:

Discussion

The FAA issued a notice of proposed rulemaking (NPRM) to amend 14 CFR part 39 to include an AD that supersedes AD 2007-02-02, amendment 39-14889 (72 FR 3044, January 24, 2007). The existing AD applies to certain McDonnell Douglas Model DC-8-55, DC-8F-54, and DC-8F-55 airplanes; and Model DC-8-60, DC-8-70, DC-8-60F, and DC-8-70F series airplanes. That NPRM was published in the Federal Register on November 21, 2007 (72 FR 65471). That NPRM proposed to continue to require a one-time inspection for previous repairs of the aft fuselage skin panel at the longeron 28 skin splice, repetitive inspections for cracking of the same area, and related investigative and corrective actions. That NPRM also proposed to re-define and more clearly describe the optional actions for extending the repetitive inspection intervals.

Comments

We provided the public the opportunity to participate in the development of this AD. We have considered the comment that was received on the NPRM.

Request To Give Credit for Prior Submission of Inspection Findings

UPS agrees with the intent of the NPRM. UPS requests, however, that we revise paragraphs (k)(1) and (k)(2) of the NPRM to specify submitting positive findings “unless previously submitted to Boeing for compliance with AD 2007-02-02.” UPS asserts that this would allow all alternative methods of compliance (AMOCs) that apply to AD 2007-02-02 to be applicable to this new AD “as per paragraph (k)(4) [sic].” UPS states that this will prevent operators from having to submit data already submitted previously for AD 2007-02-02, and again requesting AMOC approval.

We do not agree with this request. Operators are always given credit for work previously performed according to the existing AD by means of the phrase in the compliance paragraph of this AD that states, “Required * * * unless the actions have already been done.” In addition, paragraph (l)(4) of this AD (rather than paragraph (k)(4) as specified by the commenter) states that AMOCs approved for compliance with AD 2007-02-02 are acceptable for compliance with the corresponding provisions of this AD. For these reasons, no change is needed to the AD in this regard.

Conclusion

We have carefully reviewed the available data, including the comment that has been received, and determined that air safety and the public interest require adopting the AD as proposed.

Costs of Compliance

There are approximately 508 airplanes of the affected design in the worldwide fleet. The FAA estimates that 244 airplanes of U.S. registry are affected by this AD. The average labor rate is $80 per work hour. This AD adds no additional costs; however, we are repeating the costs from AD 2007-02-02 for the convenience of affected operators.

Estimated Costs
Action | Work hours | Cost per airplane | Fleet cost
Initial inspection for doubler installation | 2 to 4 | $160 to $320 | $39,040 to $78,080.
Repetitive inspections (per inspection cycle) | 2 to 8 | $160 to $640 | $39,040 to $156,160.
Repair | 164 to 184 | $13,120 to $14,720 | $3,201,280 to $3,591,680.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14889 (72 FR 3044, January 24, 2007) and by adding the following new airworthiness directive (AD):

2008-06-23 McDonnell Douglas: Amendment 39-15435. Docket No. FAA-2007-0216; Directorate Identifier 2007-NM-122-AD.

Effective Date

(a) This AD becomes effective April 22, 2008.

Affected ADs

(b) This AD supersedes AD 2007-02-02.

Applicability

(c) This AD applies to McDonnell Douglas Model DC-8-55, DC-8F-54, DC-8F-55, DC-8-61, DC-8-62, DC-8-63, DC-8-61F, DC-8-62F, DC-8-63F, DC-8-71, DC-8-72, DC-8-73, DC-8-71F, DC-8-72F, and DC-8-73F airplanes, certificated in any category; as identified in Boeing Alert Service Bulletin DC8-53A080, dated June 22, 2004.

Unsafe Condition

(d) This AD results from our determination that the inspections and actions described in the existing AD do not adequately address the unsafe condition. We are issuing this AD to detect and correct cracks in the aft fuselage skin at the longeron 28 skin splice, which could lead to loss of structural integrity of the aft fuselage, resulting in rapid decompression of the airplane.

Compliance

(e) You are responsible for having the actions required by this AD performed within the compliance times specified, unless the actions have already been done.

Requirements of AD 2007-02-02

One-Time Inspection for Previous Repairs

(f) For all airplanes: At the applicable time in paragraph (f)(1) or (f)(2) of this AD, do a general visual inspection to determine if there are previous repairs of the aft fuselage skin panel at the longeron 28 skin splice; in accordance with the Accomplishment Instructions of Boeing Alert Service Bulletin DC8-53A080, dated June 22, 2004. Then do the applicable actions specified in paragraphs (g) and (h) of this AD.

(1) For airplanes that have accumulated fewer than 24,000 total flight cycles as of February 28, 2007 (the effective date of AD 2007-02-02): Within 24 months after February 28, 2007, or prior to accumulating 24,000 total flight cycles, whichever occurs later.

(2) For airplanes that have accumulated 24,000 total flight cycles or more as of February 28, 2007: Within 12 months after February 28, 2007.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Repetitive Inspections for Areas That Do Not Have a Previous Repair

(g) For areas that do not have a previous repair: Before further flight after the initial inspection in paragraph (f) of this AD, do general visual and high-frequency eddy current (HFEC) inspections for discrepancies at longeron 28 between the bolted connection of the tail section to forward of the flat aft pressure bulkhead, on both the left and right sides, and do all applicable related investigative and corrective actions before further flight. Do all actions in accordance with the Accomplishment Instructions of Boeing Alert Service Bulletin DC8-53A080, dated June 22, 2004. Repeat the general visual and HFEC inspections thereafter at intervals not to exceed 2,000 flight cycles until an optional action in paragraph (i) of this AD is accomplished.

Repetitive Inspections and Repair for Areas That Have a Previous Repair

(h) For areas that have a previous repair: Within 24 months after accomplishing the initial inspection in paragraph (f) of this AD, remove the previous repair(s), and install a local repair, in accordance with Boeing DC-8 Service Rework Drawing SR08530032, dated January 13, 2004, including Boeing Parts List PL SR08530032, dated January 7, 2004, Boeing Advance Engineering Order, Advanced Drawing Change A, dated April 1, 2004, and Boeing Engineering Order, dated January 13, 2004. Do the inspections in paragraph (j) of this AD thereafter at the applicable interval specified in paragraph (j)(1) or (j)(2) of this AD.

New Requirements of This AD

Optional Modification/Repair

(i) Installing a full-length preventive modification, doing a full-length repair, or doing a local repair, in accordance with Boeing DC-8 Service Rework Drawing SR08530032, dated January 13, 2004, including Boeing Parts List PL SR08530032, dated January 7, 2004; Boeing Advance Engineering Order, Advanced Drawing Change A, dated April 1, 2004; and Boeing Engineering Order, dated January 13, 2004; ends the repetitive inspection intervals specified in paragraph (g) of this AD.

Extended Repetitive Inspection Intervals

(j) After removing the previous repair(s) and doing the actions specified in paragraph (h) of this AD or doing any optional repair or modification described in paragraph (i) of this AD: Do the actions described in paragraph (j)(1) or (j)(2) of this AD as applicable, in accordance with the Accomplishment Instructions of Boeing Alert Service Bulletin DC8-53A080, dated June 22, 2004. If any discrepancy is discovered during any inspection required by this paragraph, before further flight, repair the discrepancy using a method approved in accordance with the procedures specified in paragraph (l) of this AD.

(1) For areas that have been repaired on airplanes that do have internal finger doublers installed: Within 30,000 flight cycles after doing the optional repair or modification, do a general visual inspection for discrepancies along all four external edges of the doublers. Repeat the inspection thereafter at intervals not to exceed 5,000 flight cycles.

(2) For areas that have been repaired on airplanes that do not have internal finger doublers installed: Do the actions specified in paragraph (j)(2)(i) or (j)(2)(ii) of this AD, as applicable.

(i) For any repair that is 12 inches or less along the longeron: Within 15,000 flight cycles after removing the previous repair(s) and doing the actions specified in paragraph (h) of this AD or doing any optional repair or modification specified in paragraph (i) of this AD, do a general visual inspection for discrepancies along all four external edges of the doublers. Repeat the general visual inspection thereafter at intervals not to exceed 5,000 flight cycles.

(ii) For any repair that is greater than 12 inches in length along the longeron: Within 15,000 flight cycles after removing the previous repair(s) and doing the actions specified in paragraph (h) of this AD or doing any optional repair or modification specified in paragraph (i) of this AD, do a low-frequency eddy current (LFEC) inspection for discrepancies along all four external edges of the doublers. Repeat the LFEC inspection thereafter at intervals not to exceed 10,000 flight cycles.

Reporting of Results

(k) Submit a report of positive findings of the inspections required by paragraphs (g) and (j) of this AD to Boeing Commercial Airplanes, Manager, Structure/Payloads, Technical and Fleet Support, Service Engineering/Commercial Aviation Services, Long Beach Division, 3855 Lakewood Boulevard, Long Beach, California 90846, at the applicable time specified in paragraph (k)(1) or (k)(2) of this AD. The report must include the inspection results, a description of any discrepancies found, the airplane fuselage number, and the total number of landings and flight hours on the airplane. Information collection requirements contained in this AD have been approved by the Office of Management and Budget (OMB) under the provisions of the Paperwork Reduction Act (44 U.S.C. 3501 et seq.) and have been assigned OMB Control Number 2120-0056.

(1) For any inspection accomplished after the effective date of this AD: Submit the report within 30 days after performing the inspection.

(2) For any inspection accomplished prior to the effective date of this AD: Submit the report within 30 days after the effective date of this AD.

Alternative Methods of Compliance (AMOCs)

(l)(1) The Manager, Los Angeles Aircraft Certification Office (ACO), FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) An AMOC that provides an acceptable level of safety may be used for any repair required by this AD, if it is approved by an Authorized Representative for the Boeing Commercial Airplanes Delegation Option Authorization Organization who has been authorized by the Manager, Los Angeles ACO, to make those findings. For a repair method to be approved, the repair must meet the certification basis of the airplane and 14 CFR 25.571, Amendment 45, and the approval must specifically refer to this AD.

(4) AMOCs approved previously in accordance with AD 2007-02-02, are approved as AMOCs for the corresponding provisions of this AD.

Material Incorporated by Reference

(m) You must use Boeing Alert Service Bulletin DC8-53A080, dated June 22, 2004; and Boeing DC-8 Service Rework Drawing SR08530032, dated January 13, 2004, including Boeing Parts List PL SR08530032, dated January 7, 2004, Boeing Advance Engineering Order, Advanced Drawing Change A, dated April 1, 2004, and Boeing Engineering Order, dated January 13, 2004; as applicable, to perform the actions that are required by this AD, unless the AD specifies otherwise.

(1) On February 28, 2007 (72 FR 3044, January 24, 2007), the Director of the Federal Register approved the incorporation by reference of these documents.

(2) Contact Boeing Commercial Airplanes, Long Beach Division, 3855 Lakewood Boulevard, Long Beach, California 90846, Attention: Data and Service Management, Dept. C1-L5A (D800-0024), for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on March 9, 2008.
Stephen P. Boyd,
Assistant Manager, Transport Airplane Directorate, Aircraft Certification Service.

[FR Doc. E8-5295 Filed 3-17-08; 8:45 am]

BILLING CODE 4910-13-P